DEPARTMENT OF AGRICULTURE

Forest Service

South Project; Hell Canyon Ranger District, Black Hills National Forest Custer, SD

AGENCY: Forest Service, USDA.

ACTION: Notice of intent to prepare an Environmental Impact Statement (EIS).

SUMMARY: The Hell Canyon Ranger District of the Black Hills National Forest intends to prepare an Environmental Impact Statement (EIS) for a proposal to implement multiple resource management actions within the South project area as directed by the Black Hills National Forest Land and Resource Management Plan. The South project area is approximately 52,082 acres in size, with 43,045 acres of National Forest lands, 1,197 acres of state land and 7,840 acres of private land. The project proposes to reduce the risk of large-scale wildfire effects on the At-Risks Communities (ARC) of Custer, Pringle and Argyle, South Dakota, provide for wildlife habitat needs, reduce risks of mountain pine beetle infestation, provide a sustainable supply of commercial timber, and provide management and public access.

DATES: Comments related to this project will be most useful to the planning team if received within 30 days after publication of this notice in the Federal Register. The draft environmental impact statement is expected to be available January 2008 and the final environmental impact statement is expected to be completed by June 2008.

ADDRESSES: Send written comments to Michael D. Lloyd, District Ranger, Black Hills National Forest, Hell Canyon Ranger District, 330 Mount Rushmore Road, Custer, South Dakota 57730. Telephone number: (605) 673-4853. Fax number: (605) 673-5461. Electronic comments must be readable in Word, RichText or pdf format and must contain “South” in the subject line. Electronic comments may be e-mailed to: comments-rocky-mountain-black-hills-hell-canyon@fs.fed.us.

FOR FURTHER INFORMATION CONTACT: Betsy Koncerak, Project Leader, at the address listed above or by phone at (605) 673-4853.

SUPPLEMENTARY INFORMATION: The actions proposed are in direct response to management direction provided by the Black Hills National Forest Land and Resource Management Plan, as amended (Forest Plan). The Project Area is located approximately four miles west of Custer, South Dakota and is within Custer County. The northernmost point of the project area lies approximately four miles north of US Highway 16 along Lightning Creek road. The southernmost point of the project area is approximately 12 miles south of US Highway 16 along Pleasant Valley Road.

Purpose and Need for Action

The purpose and need for action in the South project area is to reduce the risk of large-scale wildfire on the At-Risk Communities (ARCs) of Custer, Pringle and Argyle, South Dakota (66 FR 43384), provide for wildlife habitat needs, enhance vegetative diversity, reduce the risk of mountain pine beetle infestation, and provide a sustainable supply of commercial timber consistent with direction in the Revised Forest Plan for the Black Hills National Forest, as amended (Forest Plan), while providing for management and public access needs. This project is focused on implementing management actions that move toward achieving desired conditions and objectives embodied in Goals 10 (establish and maintain a mosaic of vegetation conditions to reduce occurrences of large-scale fire, insect, and disease events), 2 (provide for biologically diverse ecosystems), and 3 (provide for sustained commodity uses) of the Forest Plan.

Proposed Action

The proposed action includes the following management actions:

• Commercial thinning to 40 basal area on approximately 9,621 acres to reduce fuels around private lands to reduce the risk of large-scale wildfire. In addition, approximately 9,400 acres of prescribed burning is proposed to reduce fuels in other portions of the project area to create fuel breaks for community protection.

• Commercial thinning to 60 basal area on approximately 2,628 acres to increase tree growth and vigor, reduce the potential for mountain pine beetle infestation and reduce the potential for spreading crown fires.

• Releasing approximately 11,428 acres of regenerated pine stands through overstory removal prescriptions.

• Restoration and maintenance of meadows by removing conifers from approximately 2,847 acres of these habitats.

• Reducing the density of the managed road system, which is currently 5.4 miles per square mile, by closing unneeded roads and by converting needed, unauthorized roads to system roads.

Responsible Official

Michael D. Lloyd, District Ranger, Black Hills National Forest, Hell Canyon Ranger District, 330 Mount Rushmore Road, Custer, South Dakota 57730.

Nature of Decision To Be Made

The decision to be made is whether or not to implement the proposed action or an alternative to the proposed action at this time.

Scoping Process

The Hell Canyon Ranger District has mailed letters with comprehensive scoping documents to landowners, local and tribal government representatives, permittees, and other interested or potentially affected parties and organizations. The scoping document with attached maps will be posted on the Black Hills National Forest Web site in July 2007. Comments submitted in response to this NOI will be most useful to the project planning team if received within 30 days from the date of this notice.

Comment Requested

This notice of intent is part of the scoping process which will guide the development of the EIS. Comments received will assist the planing team with identification of key issues to refine the proposal, create alternative proposals, and identify necessary project design features. Comments on the Draft EIS will be requested during the 45 day comment period following publication of the Notice of Availability in the Federal Register which is expected in January 2008.

Early Notice of Importance of Public Participation in Subsequent Environmental Review

A Draft EIS will be prepared for comment. The comment period on the draft environmental impact statement will be 45 days from the date the Environmental Protection Agency publishes the Notice of Availability in the Federal Register.

The Forest Service planning team would like to take this opportunity to give reviewers advanced notice of several court rulings related to public participation in the environmental review process: (1) Reviewers of draft environmental impact statements must structure their participation in the environmental review of the proposal so that it is meaningful and alters an agency to the reviewer's position and contentions. Vermont Yankee Nuclear Power Corp. v. NRDC, 435 U.S. 519, 553 (1978); (2) Environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, parties interested in this proposed action must submit comments by the close of the 45 day comment period to assure that the Forest Service planning team can meaningfully consider and respond to them in the final environmental impact statement. To assist the Forest Service in identifying and considering issues and concerns on the proposed action, comments on the draft environmental impact statement should be as specific as possible. Please refer to specific pages or chapters of the draft statement. Comments may also address the adequacy of the draft environmental impact statement or the merits of the alternatives formulated and discussed within the statement. In addressing these points, reviewers may wish to refer to the Council on Environmental Quality Regulations for implementing the procedural provisions of the National Environmental Policy Act at 40 CFR 1503.3.

Comments received on this proposal, including names and addresses of those who comment, will be considered part of the public record and will be available for public inspection.

(Authority: 40 CFR 1501.7 and 1508.22; Forest Service Handbook 1909.15, Section 21)

Dated: July 18, 2007.
Craig Bobzien
Forest Supervisor, Black Hills National Forest.

[FR Doc. 07-3621 Filed 7-24-07; 8:45 am]

BILLING CODE 3410-11-M